DEPARTMENT OF THE TREASURY

Internal Revenue Service

Open Meeting of Citizen Advocacy Panel, Midwest District

AGENCY: Internal Revenue Service (IRS), Treasury.

ACTION: Notice.

SUMMARY: A meeting of the Midwest Citizen Advocacy Panel will be held in Grand Island NE.

DATES: The meeting will be held Thursday, May 18, 2000 and Friday, May 19, 2000.

FOR FURTHER INFORMATION CONTACT: Sandra McQuin at 1-888-912-1227, or 414-297-1604.

SUPPLEMENTARY INFORMATION: Notice is hereby given pursuant to Section 10(a)(2) of the Federal Advisory Committee Act, 5 U.S.C. App. (1988) that an open meeting of the Citizen Advocacy Panel (CAP) will be held Thursday, May 18, 2000, from 9:00 a.m. to 4:00 p.m. and Friday, May 19, 2000, from 9:00 a.m. to 12:00 p.m. at Grand Island Holiday Inn Midtown, 2503 South Locust, Grand Island, NE. The Citizen Advocacy Panel is soliciting public comment, ideas, and suggestions on improving customer service at the Internal Revenue Service. The public is invited to make oral comments at the CAP town hall main meeting on Thursday May 18, 7:00 p.m. to 8:30 p.m. at College Park, 3180 W HWY 34, Grand Island, NE, Room 305, which will include a guest panel discussion of Federal Estate tax return processing. The meeting may also be viewed via Video conferencing at other locations throughout the area. The public is invited to make oral comments after the panel discussion. If you would like to have the CAP consider a written statement, pre-register to make an oral comment, or are interested in additional Video conferencing locations, please call the CAP office at 1-888-912-1227 or 414-297-1604, FAX (414) 297-1623, or mail to Citizen Advocacy Panel, Mail Stop 1006-MIL, 310 West Wisconsin Ave, Milwaukee, Wisconsin 53203-2221. If you would like to pre-register for the meeting, the only information needed by the CAP office is number of attendees and zip code.

The Agenda will include the following: Reports by the CAP sub-groups, presentation of taxpayer issues by individual members, discussion of issues, and CAP office report.

Note: Last minute changes to the agenda are possible and could prevent effective advance notice.

Dated: April 21, 2000.
M. Cathy VanHorn,
Director, CAP Communications & Liaison.

[FR Doc. 00-11050 Filed 5-2-00; 8:45 am]

BILLING CODE 4830-01-P